DEPARTMENT OF THE INTERIOR

Bureau of Land Management

[CA-670-01-1610-JP-064B]

Temporary Closure of Approximately 49,300 Acres to Motorized Vehicle Use of Five Selected Areas in the Imperial Sand Dunes Recreation Management Area, Imperial County, CA

AGENCY: Bureau of Land Management, Interior.

ACTION: Temporary closure of approximately 49,300 acres to motorized vehicle use of five selected areas in the Imperial Sand Dunes Recreation Management Area, Imperial County, California.

DATES: This temporary closure was approved September 27, 2001 and is in effect.

ADDRESSES: Bureau of Land Management, El Centro Field Office, 1661 S. 4th Street, El Centro, CA 92243.

FOR ADDITIONAL INFORMATION CONTACT: Roxie Trost, BLM, El Centro Field Office, 1661 S. 4th Street, El Centro, CA 92243, telephone (760) 337-4400. The closure is posted in the El Centro Field Office and at places near and/or within the area to which the closure applies. Maps identifying the affected areas are available at the El Centro Field Office as well as on the Bureau of Land Management (BLM) California Web site at www.ca.blm.gov.

SUPPLEMENTARY INFORMATION: This temporary closure is implemented pursuant to Title 43 Code of Federal Regulations (CFR) 8341.2(a). The closure was approved September 27, 2001 and will remain in effect until BLM completes and implements the Imperial Sand Dunes Recreation Management Plan (ISDRMP) now under preparation.

Exceptions to this closure include government vehicles conducting official business which shall be allowed inside the closed areas as authorized. Official business may include public service emergencies, resource monitoring/research, other dunes operations and management activities, and other actions authorized by BLM's El Centro Field Office Manager.

Notice of the proposed closure was published in the Federal Register June 15, 2001 (66 FR 32640).

Dated: October 12, 2001.
Greg Thomsen,
Field Manager.

[FR Doc. 01-26691 Filed 10-19-01; 8:45 am]

BILLING CODE 4310-40-P